DEPARTMENT OF ENERGY

Federal Energy Regulatory Commission

Combined Notice of Filings #1

Take notice that the Commission received the following electric rate filings:

Docket Numbers: ER15-1365-003.

Applicants: Morris Cogeneration, LLC.

Description: Compliance filing: Informational Filing Pursuant to Schedule 2 to be effective N/A.

Filed Date: 2/8/21.

Accession Number: 20210208-5057.

Comments Due: 5 p.m. ET 3/1/21.

Docket Numbers: ER15-704-019.

Applicants: Pacific Gas and Electric Company.

Description: Compliance filing: CCSF WDT Compliance Filing (Feb 2021) to be effective 7/23/2015.

Filed Date: 2/8/21.

Accession Number: 20210208-5114.

Comments Due: 5 p.m. ET 3/1/21.

Docket Numbers: ER15-704-020.

Applicants: Pacific Gas and Electric Company.

Description: Compliance filing: CCSF Compliance filing WDT IA (SA 275) (Feb 2021) to be effective 7/1/2015.

Filed Date: 2/8/21.

Accession Number: 20210208-5122.

Comments Due: 5 p.m. ET 3/1/21.

Docket Numbers: ER19-2916-003

Applicants: Calpine Mid-Merit II, LLC.

Description: Compliance filing: Reactive Service Rate Schedule Compliance Filing to be effective 11/1/2019.

Filed Date: 2/8/21.

Accession Number: 20210208-5121.

Comments Due: 5 p.m. ET 3/1/21.

Docket Numbers: ER21-645-000.

Applicants: TransWest Express LLC.

Description: Amendment to January 15, 2021 TransWest Express LLC Application for Authorization to sell transmission service rights at negotiated rates.

Filed Date: 2/5/21.

Accession Number: 20210205-5181.

Comments Due: 5 p.m. ET 2/12/21.

Docket Numbers: ER21-1067-000.

Applicants: Appalachian Power Company.

Description: § 205(d) Rate Filing: OATT—Revise Attachment K, AEP Texas Inc. Rate Update to be effective 12/31/9998.

Filed Date: 2/8/21.

Accession Number: 20210208-5087.

Comments Due: 5 p.m. ET 3/1/21.

Docket Numbers: ER21-1068-000.

Applicants: American Electric Power Service Corporation, Ohio Power Company, AEP Ohio Transmission Company, Inc., PJM Interconnection, L.L.C.

Description: § 205(d) Rate Filing: AEP submits Scioto Ridge Facilities Agreement with SA No. 1336 to be effective 4/10/2021.

Filed Date: 2/8/21.

Accession Number: 20210208-5109.

Comments Due: 5 p.m. ET 3/1/21.

Docket Numbers: ER21-1069-000.

Applicants: PJM Interconnection, L.L.C.

Description: Tariff Cancellation: Notice of Cancellation of WMPA SA No. 5670; Queue No. AE2-151 to be effective 2/27/2021.

Filed Date: 2/8/21.

Accession Number: 20210208-5125.

Comments Due: 5 p.m. ET 3/1/21.

Take notice that the Commission received the following foreign utility company status filings:

Docket Numbers: FC21-2-000.

Applicants: I Squared Capital.

Description: Self-Certification of FC of I Squared Capital.

Filed Date: 2/3/21.

Accession Number: 20210203-5169.

Comments Due: 5 p.m. ET 2/24/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 8, 2021.
Nathaniel J. Davis, Sr.,
Deputy Secretary.

[FR Doc. 2021-02896 Filed 2-11-21; 8:45 am]

BILLING CODE 6717-01-P